NATIONAL FOUNDATION ON THE ARTS AND THE HUMANITIES

Institute of Museum and Library Services; Sunshine Act Meeting of the National Museum and Library Services Board

AGENCY: Institute of Museum and Library Services (IMLS), NFAH.

ACTION: Notice of Meeting.

SUMMARY: This notice sets forth the agenda of the forthcoming meeting of the National Museum and Library Services Board. This notice also describes the function of the Board. Notice of the meeting is required under the Sunshine in Government Act.

Time and Date: Monday, June 23, 2008 from 1 p.m. to 4 p.m.

Agenda: Fifteenth National Museum and Library Services Board Meeting:

I. Welcome

II. Approval of Minutes

III. Financial Update

IV. Legislative Update

V. Board Program: Connecting to Collections & Youth Initiatives

VI. Board Updates

VII. Adjournment

(Open to the Public)

Place: The meeting will be held in the Gates Room on Level Five of the Denver Public Library, 10 W 14th Avenue Parkway, Denver, Colorado. Telephone: (720) 865-1111.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services. If you need special accommodations due to a disability, please contact: Institute of Museum and Library Services, 1800 M Street, NW., 9th Fl., Washington, DC 20036. Telephone: (202) 653-4676; TDD (202) 653-4614 at least seven (7) days prior to the meeting date.

Dated: June 2, 2008.
Kate Fernstrom,
Chief of Staff.

[FR Doc. E8-12919 Filed 6-11-08; 8:45 am]

BILLING CODE 7036-01-M